DEPARTMENT OF ENERGY

Federal Energy Regulatory Commission

Combined Notice of Filings #1

Take notice that the Commission received the following electric rate filings:

Docket Numbers: ER10-2464-011; ER13-1585-010; ER13-1139-016; ER11-2657-010; ER10-2465-009; ER10-2464-011.

Applicants: First Wind Energy Marketing, LLC, Imperial Valley Solar 1, LLC, Longfellow Wind, LLC, Milford Wind Corridor Phase I, LLC, Milford Wind Corridor Phase II, LLC, Regulus Solar, LLC.

Description: Supplement to June 30, 2016 Market Power Update for the Southwest Region of First Wind Energy Marketing, LLC, et al.

Filed Date: 9/29/16.

Accession Number: 20160929-5210.

Comments Due: 5 p.m. ET 10/20/16.

Docket Numbers: ER15-1510-002.

Applicants: FirstEnergy Solutions Corp.

Description: Compliance filing: Compliance to 51 to be effective 11/16/2015.

Filed Date: 9/30/16.

Accession Number: 20160930-5128.

Comments Due: 5 p.m. ET 10/21/16.

Docket Numbers: ER16-2048-001.

Applicants: Exelon West Medway II, LLC.

Description: Compliance filing: Amended Certificate of Concurrence Filing to be effective 10/1/2016.

Filed Date: 9/30/16.

Accession Number: 20160930-5087.

Comments Due: 5 p.m. ET 10/21/16.

Docket Numbers: ER16-2509-002.

Applicants: Rutherford Farm, LLC.

Description: Tariff Amendment: Additional Amendment to Application and Initial Baseline Tariff Filing to be effective 10/29/2016.

Filed Date: 9/30/16.

Accession Number: 20160930-5040.

Comments Due: 5 p.m. ET 10/21/16.

Docket Numbers: ER16-2566-001.

Applicants: Dynegy Midwest Generation, LLC.

Description: Tariff Amendment: Superseded Revised Rate Schedule to be effective 10/17/2016.

Filed Date: 9/30/16.

Accession Number: 20160930-5157.

Comments Due: 5 p.m. ET 10/21/16.

Docket Numbers: ER16-2698-001.

Applicants: PJM Interconnection, L.L.C.

Description: Tariff Amendment: Errata to Amendment to Service Agreement No. 3153, Queue No. W1-029 to be effective 11/4/2011.

Filed Date: 9/29/16.

Accession Number: 20160929-5175.

Comments Due: 5 p.m. ET 10/20/16.

Docket Numbers: ER16-2703-000.

Applicants: Deerfield Wind Energy, LLC.

Description: Baseline eTariff Filing: Application for MBR Filing to be effective 10/7/2016.

Filed Date: 9/29/16.

Accession Number: 20160929-5174.

Comments Due: 5 p.m. ET 10/20/16.

Docket Numbers: ER16-2704-000.

Applicants: Southern California Edison Company.

Description: § 205(d) Rate Filing: Kitching Street 115 kV Intx Project Wholesale Distribution Load IFA to be effective 10/1/2016.

Filed Date: 9/30/16.

Accession Number: 20160930-5002.

Comments Due: 5 p.m. ET 10/21/16.

Docket Numbers: ER16-2705-000.

Applicants: Orange and Rockland Utilities, Inc.

Description: § 205(d) Rate Filing: Filing of Integrated ESA to be effective 9/30/2016.

Filed Date: 9/30/16.

Accession Number: 20160930-5019.

Comments Due: 5 p.m. ET 10/21/16.

Docket Numbers: ER16-2706-000.

Applicants: Idaho Power Company.

Description: Compliance filing: LGIA/SGIA Modifications—Order Nos. 827 and 828 Combined Compliance Filing to be effective 11/30/2016.

Filed Date: 9/30/16.

Accession Number: 20160930-5073.

Comments Due: 5 p.m. ET 10/21/16.

Docket Numbers: ER16-2707-000.

Applicants: California Independent System Operator Corporation.

Description: Petition for Approval of Disposition of Proceeds of Penalty Assessments and Non-Refundable Interconnection Financial Security of California Independent System Operator Corporation.

Filed Date: 9/29/16.

Accession Number: 20160929-5212.

Comments Due: 5 p.m. ET 10/20/16.

Docket Numbers: ER16-2709-000.

Applicants: PJM Interconnection, L.L.C.

Description: Tariff Cancellation: Service Agreement No. 4489, Queue No. AA1-116/AA1-117 Cancellation to be effective 12/1/2016.

Filed Date: 9/30/16.

Accession Number: 20160930-5124.

Comments Due: 5 p.m. ET 10/21/16.

Docket Numbers: ER16-2710-000.

Applicants: MATL LLP.

Description: § 205(d) Rate Filing: MATL K clean up filing to be effective 11/23/2016.

Filed Date: 9/30/16.

Accession Number: 20160930-5133.

Comments Due: 5 p.m. ET 10/21/16.

Docket Numbers: ER16-2711-000.

Applicants: Talen Energy Marketing, LLC.

Description: § 205(d) Rate Filing: Reactive Revenue Adjustment Filing to be effective 11/17/2016.

Filed Date: 9/30/16.

Accession Number: 20160930-5142.

Comments Due: 5 p.m. ET 10/21/16.

Docket Numbers: ER16-2712-000.

Applicants: PacifiCorp.

Description: § 205(d) Rate Filing: OATT Revised Attachment K—1st planning cycle modifications to be effective 11/30/2016.

Filed Date: 9/30/16.

Accession Number: 20160930-5162.

Comments Due: 5 p.m. ET 10/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2016.
Nathaniel J. Davis, Sr.,
Deputy Secretary.

[FR Doc. 2016-24203 Filed 10-5-16; 8:45 am]

BILLING CODE 6717-01-P